SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Director to the following addresses or fax numbers.

(OMB), Office of Management and Budget, Attn: Desk Officer for SSA, Fax: 202-395-6974, E-mail address: OIRA_Submission@omb.eop.gov.

(SSA), Social Security Administration, DCBFM, Attn: Director, Center for Reports Clearance, 1333 Annex Building, 6401 Security Blvd., Baltimore, MD 21235, Fax: 410-965-0454, E-mail address: OPLM.RCO@ssa.gov.

I. The information collections below are pending at SSA. SSA will submit them to OMB within 60 days from the date of this notice. To be sure we consider your comments, we must receive them no later than August 6, 2010. Individuals can obtain copies of the collection instruments by calling the SSA Director for Reports Clearance at 410-965-0454 or by writing to the above e-mail address.

1. Certificate of Coverage Request—20 CFR 404.1913—0960-0554. The United States has agreements with 21 foreign countries to eliminate double Social Security coverage and taxation where, except for the provisions of the agreement, a worker would be subject to coverage and taxes in both countries. These agreements contain rules for determining the country under whose laws the worker's period of employment is covered, and to which country the worker will pay taxes. The agreements further dictate that, upon the request of the worker or employer, the country under whose system the period of work is covered will issue a certificate of coverage. The certificate serves as proof of exemption from coverage and taxation under the system of the other country. The information we collect assists us in determining a worker's coverage and in issuing a U.S. certificate of coverage as appropriate. Respondents are workers and employers wishing to establish exemption from foreign Social Security taxes.

Type of Request: Revision of an OMB-approved information collection.

Type of respondent | Number of respondents | Frequency of response | Average burden per response (minutes) | Total annual burden (hours)
Individuals | 30,000 | 1 | 30 | 15,000
Private Sector | 20,000 | 1 | 30 | 10,000
Totals | 50,000 |  |  | 25,000

2. Incorporation by Reference of Oral Findings of Fact and Rationale in Wholly Favorable Written Decisions (Bench Decision Regulation)—20 CFR 404.953 and 416.1453—0960-0694. If an Administrative Law Judge (ALJ) makes a wholly favorable oral decision that includes all the findings and rationale for the decision for a claimant of Title II or Title XVI payments at an administrative appeals hearing, the records from the oral hearing preclude the need for a written decision. This is known as the incorporation-by-reference process. These regulations also state that if the involved parties want a record of the oral decision, they may submit a written request for these records. Therefore, SSA uses the identifying information collected under the aegis of sections 20 CFR 404.953 and 416.1453 to determine how to send interested individuals written records of a favorable incorporation-by-reference oral decision made at an administrative review hearing. Since there is no prescribed form to request a written record of the decision, the involved parties send SSA their contact information and reference the hearing for which they would like a record. The respondents are applicants for Disability Insurance Benefits and Supplemental Security Income (SSI) payments or their representatives to whom SSA gave a wholly favorable oral decision under the regulations cited above.

Type of Request: Extension of an OMB-approved information collection.

Number of Respondents: 2,500.

Frequency of Response: 1.

Average Burden per Response: 5 minutes.

Estimated Annual Burden: 208 hours.

3. Cost Reimbursable Research Request—20 CFR 401.165—0960-0754. Qualified researchers need SSA administrative data for a variety of projects. To request SSA's program data for research, a researcher must submit a completed research application, Form SSA-9901 (How to Request SSA Program Data for Research) for SSA's evaluation. In the application, the requesting researcher must provide basic project information and describe the way in which the proposed project will further SSA's mission to promote the economic security of the Nation's people through its administration of the Old Age, Survivors, and Disability Insurance Programs, and/or the SSI Program. SSA reviews the application, and once we approve it, the researcher signs Form SSA-9903, SSA Agreement Regarding Conditions for Use of SSA Data, which outlines the conditions and safeguards for the research project data exchange. The researcher may use the data for research and statistical purposes only and must complete Form SSA-9902, Confidentiality Agreement. SSA recovers all expenses incurred in providing this information as part of this reimbursable service. The respondents are Federal and state government agencies and/or their contractors, private entities, and colleges/universities.

Type of Request: Revision of an OMB-approved information collection.

Number of Respondents: 15.

Frequency of Response: 1.

Average Burden per Response: 240 minutes.

Estimated Annual Burden: 60 hours.

4. Request to Decision Review Board to Vacate the Administrative Law Judge Dismissal of Hearing—20 CFR 405.427—0960-0755. When an ALJ dismisses a hearing for a claim for Title II or Title XVI disability payments, the claimant may request to vacate or stop this decision by completing and submitting Form SSA-525 to the SSA Decision Review Board (Board). The Board uses this information to: (1) Establish the continued involvement of the requestor in the claim; (2) consider the requestor's arguments for vacating the dismissal; and (3) vacate or decline to vacate the ALJ's dismissal order. The respondents are Social Security disability or SSI claimants who are requesting the Board to vacate their dismissal order.

Type of Request: Revision of an OMB-approved information collection.

Number of Respondents: 30,000.

Frequency of Response: 1.

Average Burden per Response: 10 minutes.

Estimated Annual Burden: 5,000 hours.

5. Authorization to Release Medical Report to Physician—20 CFR 401.55 & 401.100—0960-0761. When evidence provided by a disability claimant is inadequate for SSA to determine the disability, SSA requests a consultative examination (CE) for additional information or clarification. If the claimant, his/her court appointed representative, or a parent of a minor child wants the CE report sent to the claimant's treating physician, he/she completes Form SSA-91 and sends it to SSA for processing. SSA uses the information on the SSA-91 to release the CE report to the authorized physician. Respondents are applicants for disability claims.

Type of Request: Revision of an OMB-approved information collection.

Number of Respondents: 7,922.

Frequency of Response: 1.

Average Burden per Response: 5 minutes.

Estimated Annual Burden: 660 hours.

6. Authorization for SSA to Disclose Tax Information for Your Appeal of Your Medicare Part B Income-Related Monthly Adjustment Premium Amount—20 CFR 418.1350—0960-0762. Medicare Part B beneficiaries who wish to appeal SSA's reconsideration of their Income-Related Monthly Adjustment Amount (IRMAA) must ensure the relevant Internal Revenue Service (IRS) income tax data is available to the Health and Human Services ALJ who will consider their appeal. Through Form SSA-54, SSA obtains beneficiary authorization to disclose the IRS beneficiary tax data to the ALJ. The respondents are Medicare Part B recipients who want to appeal SSA's reconsideration of their IRMAA amount.

Type of Request: Extension of an OMB-approved information collection.

Number of Respondents: 6,000.

Frequency of Response: 1.

Average Burden per Response: 15 minutes.

Estimated Annual Burden: 1,500 hours.

7. Appointment of Representative—20 CFR 404.1707, 404.1720, 404.1725, 410.684 and 416.1507—0960-0527. Correction Notice: SSA inadvertently published this information collection request on May 13, 2010 at 75 FR 27036, although we were not yet ready to solicit public comment. We will publish this request again at a future date.

II. SSA has submitted the information collections listed below to OMB for clearance. Your comments on the information collections would be most useful if OMB and SSA receive them within 30 days from the date of this publication. To be sure we consider your comments, we must receive them no later than August 6, 2010. You can obtain a copy of the OMB clearance packages by calling the SSA Director for Reports Clearance at 410-965-0454 or by writing to the above e-mail address.

1. Wage Reports and Pension Information—20 CFR 422.122(b)—0960-0547. Pension plan administrators annually file plan information with the IRS, who then forwards the information to SSA. SSA maintains and organizes this information by plan numbers, plan participant's name, and Social Security number. Under Section 1131(a) of the Social Security Act, pension plan participants are entitled to request this information from SSA. The Wage Reports and Pension Information regulation, 20 CFR 422.122(b) of the Code of Federal Regulations, stipulates that before SSA disseminates this information, the requestor must first submit a written request with identifying information to SSA. The respondents are requestors of pension plan information.

Type of Request: Extension of an OMB-approved information collection.

Number of Respondents: 600.

Frequency of Response: 1.

Average Burden per Response: 30 minutes.

Estimated Annual Burden: 300 hours.

2. Request for Reconsideration—20 CFR 404.907-404.921, 416.1407-416.1421, 408.1009—0960-0622. SSA uses Form SSA-561-U2 to initiate and document the reconsideration process for determining an individual's eligibility or entitlement to Social Security benefits (Title II), SSI payments (Title XVI), Special Veterans Benefits (Title VIII), Medicare (Title XVIII), and for initial determinations regarding Medicare Part B income-related premium subsidy reductions. The respondents are individuals filing for reconsideration.

Type of Request: Revision of an OMB-approved information collection.

Collection method | Number of respondents | Frequency of response | Average burden per response (minutes) | Estimated annual burden (hours)
Paper & Modernized Claims System | 730,850 | 1 | 8 | 97,447
i561 | 730,850 | 1 | 20 | 243,617
Totals | 1,461,700 |  |  | 341,064

3. Identifying Information for Possible Direct Payment of Authorized Fees—0960-0730. SSA collects information from claimants' appointed representatives on Form SSA-1695 to process and facilitate direct payment of authorized fees to a financial institution. SSA also needs this information to issue a Form 1099-MISC, if applicable. Finally, SSA uses Form SSA-1695 to establish a link between each claim for benefits and the data that we collect on the SSA-1699 for our appointed representative database. The respondents are attorneys and other individuals who represent claimants for benefits before SSA.

Type of Request: Extension of an OMB approved information collection.

Number of Respondents: 10,000.

Frequency of Response: 40.

Average Burden per Response: 10 minutes.

Estimated Annual Burden: 66,667 hours.

Elizabeth Davidson,
Center Director, Center for Reports Clearance, Social Security Administration.

[FR Doc. 2010-13530 Filed 6-4-10; 8:45 am]

BILLING CODE 4191-02-P